DEPARTMENT OF DEFENSE

Office of the Secretary

Membership of the Office of the Secretary of Defense Performance Review Board

AGENCY: Department of Defense.

ACTION: Notice.

This notice announces the appointment of the members of the Performance Review Board (PRB) of the Office of the Secretary of Defense, to include the Joint Staff, the U.S. Mission to the North Atlantic Treaty Organization, Defense Field Activities, the U.S. Court of Appeals of the Armed Forces and the following Defense Agencies: Defense Advance Research Projects Agency, the Defense Commissary Agency, Defense Security Service, Defense Security Cooperation Agency, Missile Defense Agency, Defense Business Transformation Agency, Defense Legal Services Agency, and Pentagon Force Protection Agency; The publication of PRB membership is required by 5 U.S.C. 4314(c)(4).

The Performance Review Board (PRB) provides fair and impartial review of Senior Executive Service performance appraisals and makes recommendations regarding performance ratings and performance awards to the Secretary of Defense.

EFFECTIVE DATE: October 22, 2007.

FOR FURTHER INFORMATION CONTACT: Jennifer Prater, Executive and Political Personnel Division, Human Resources Directorate, Washington Headquarters Services, Office of the Secretary of Defense, Department of Defense, The Pentagon, (703) 693-8347.

SUPPLEMENTARY INFORMATION: In accordance with 5 U.S.C. 4314(c)(4), the following executives are appointed to the Office of the Secretary of Defense PRB: Specific PRB panel assignments will be made from this group. Executives listed will serve a one-year renewable term, effective October 22, 2007.

Office of the Secretary of Defense

Chairperson: Eric Coulter

Nancy Spruill | Noreen Holthaus
Timothy Harp | Tom Lavery
Mary George | Bruce Bade
William Lowry | Sheila Earle
Alan Liotta | Charles Kosak
Lora Muchmore | Radja Sekar
Jennifer Buck | Gary Pennett
Kenneth Handelman | Curt Gilroy
Joseph Noguiera | Margaret Myer
Richard Sayre | Susan Shekmar
Sheryl McNair | Don Diggs
Frank Anderson | Bonnie Hammersley
Scott Comes | Cheryl Roby
Craig Glassner | Gary Powell
Paul Koffsky | Joe Sikes
Christine Condon | Patrick O'Brien
Dennis Clem | Sheryl McNair
Gail McGinn | Steve Huybrechts
James Russel |

L.M. Bynum,
OSD Federal Register Liaison Officer, Department of Defense.

[FR Doc. 07-5347 Filed 10-26-07; 8:45 am]

BILLING CODE 5001-06-M